DEPARTMENT OF THE INTERIOR

Fish and Wildlife Service

Medicine Lake National Wildlife Refuge Complex, Medicine Lake, MT

AGENCY: Fish and Wildlife Service, Interior.

ACTION: Notice of intent; request for comments.

SUMMARY: This notice advises that the U.S. Fish and Wildlife Service (Service) intends to gather information necessary to prepare a Comprehensive Conservation Plan (CCP) and associated environmental documents for the Medicine Lake National Wildlife Refuge (NWR) Complex in Northeast Montana, which includes Medicine Lake NWR, Lamesteer NWR, and the Northeast Montana Wetland Management District.

The Service is furnishing this notice in compliance with Service CCP policy to advise other agencies and the public of its intentions, and to obtain suggestions and information on the scope of issues to be considered in the planning process.

DATES: Written comments must be received by February 8, 2007.

ADDRESSES: Comments or requests for more information regarding the Medicine Lake NWR Complex should be sent to Laurie Shannon, Planning Team Leader, Division of Refuge Planning, P.O. Box 25486, Denver Federal Center, Denver, Colorado 80225.

FOR FURTHER INFORMATION CONTACT: Laurie Shannon, 303-236-4317, or John Esperance, Chief, Branch of Comprehensive Conservation Planning, 303-236-4369.

SUPPLEMENTARY INFORMATION: The Service has initiated the CCP for the Medicine Lake NWR Complex with headquarters in Medicine Lake, Montana.

The Medicine Lake NWR Complex is located within the highly productive prairie pothole region of the Northern Great Plains, along the western edge of the Missouri Coteau, in northeastern Montana. It is composed of three individual units: Medicine Lake NWR, Lamesteer NWR, and the Northeast Montana Wetland Management District. Together these units are dispersed across four counties and require management of more than 73,532 acres of Service-owned lands, wetland and/or grassland easements, or leases on privately owned land. Medicine Lake NWR encompasses 31,534 acres including 11,360 acres of designated wilderness and was established in 1935 as “* * * a refuge and breeding ground for migratory birds and other wildlife” (Executive Order 7148, dated August 29, 1935). The Wetland Management District was established in 1968 and consists of Waterfowl Production Areas and wetland and grassland easements. The purpose of these acquired Waterfowl Production Areas and easements is to function as “waterfowl production areas subject to * * * all of the provisions of the Migratory Bird Conservation Stamp Act * * * except the inviolate sanctuary provisions” (16 U.S.C. 718). Lamesteer NWR, established in 1942 as an easement refuge, was described as “800 acres in Wibaux County, Montana, * * * as refuge and breeding ground for migratory birds and other wildlife” (Executive Order 9166, dated May 19, 1942).

The Medicine Lake NWR Complex is home to more than 270 species of birds, 38 species of mammals, and 17 species of reptiles and amphibians. Each unit of the National Wildlife Refuge System, including the Medicine Lake NWR Complex, has specific purposes for which it was established and for which legislation was enacted. Those purposes are used to develop and prioritize management goals and objectives within the National Wildlife Refuge System mission, and to guide which public uses will occur on these refuges. The planning process is a way for the Service and the public to evaluate management goals and objectives for the best possible conservation efforts of this important wildlife habitat, while providing for wildlife-dependent recreation opportunities that are compatible with the refuges' establishing purposes and the mission of the National Wildlife Refuge System.

The Service will conduct a comprehensive conservation planning process that will provide opportunity for Tribal, State, and local governments; agencies; organizations; and the public to participate in issue scoping and public comment. The Service is requesting input for issues, concerns, ideas, and suggestions for the future management of the Medicine Lake NWR Complex. Anyone interested in providing input is invited to respond to the following three questions.

(1) What do you value most about the Medicine Lake NWR Complex?

(2) What problems or issues do you want to see addressed in the CCP?

(3) What changes, if any, would you like to see in the management of the Medicine Lake NWR Complex?

The Service has provided the above questions for your optional use; you are not required to provide information to the Service. The planning team developed these questions to facilitate finding out more information about individual issues and ideas concerning these three units of the National Wildlife Refuge System. Comments received by the planning team will be used as part of the planning process; individual comments will not be referenced in our reports or responded to directly.

An opportunity will be given to the public to provide input at the open house to scope issues and concerns (schedules can be obtained from the planning team leader at the above address). Comments may also be submitted anytime during the planning process by writing to the above address. All information provided voluntarily by mail, phone, or at public meetings becomes part of the official public record (i.e., names, addresses, letters of comment, input recorded during meetings). If requested under the Freedom of Information Act by a private citizen or organization, the Service may provide informational copies.

The environmental review of this project will be conducted in accordance with the requirements of the National Environmental Policy Act (NEPA) of 1969, as amended (42 U.S.C. 4321 et seq.); NEPA Regulations (40 CFR parts 1500-1508); other appropriate Federal laws and regulations; and Service policies and procedures for compliance with those regulations. All comments received from individuals on Service Environmental Assessments and Environmental Impact Statements become part of the official public record. Requests for such comments will be handled in accordance with the Freedom of Information Act, NEPA (40 CFR 1506.6(f)), and other Departmental and Service policies and procedures. When requested, the Service generally will provide comment letters with the names and addresses of the individuals who wrote the comments. However, the telephone number of the commenting individual will not be provided in response to such requests to the extent permissible by law.

Dated: November 17, 2006.
James J. Slack,
Deputy Regional Director, Region 6, Denver, Colorado.

[FR Doc. E7-72 Filed 1-8-07; 8:45 am]

BILLING CODE 4310-55-P